SMALL BUSINESS ADMINISTRATION

Region VI—Houston District; Advisory Council Meeting; Public Meeting

The Small Business Administration-Region VI—Houston Advisory Council, located in the geographical Area of Houston, Texas will hold a federal public meeting on—Thursday, May 20, 2010, starting at 10:30 a.m. The meeting will be conducted in the Conference Room at the Small Business Administration, 8701 S. Gessner Drive, Suite 1200, Houston, TX 77074. The purpose of the meeting is to discuss the following.

(1) Houston District Office Performance Goals for 2009-2010.

(2) National SBA Initiatives.

(3) Markets Perception And How To Increase SBA Lending.

(4) Secondary Market.

(5) Small Business Week Awards Luncheon.

For further information, write to Alfreda Crawford, Business Development Specialist, at the Small Business Administration, 8701 S. Gessner, Suite 1200, Houston, TX 77074 or call (713) 773-6555.

Dan Jones,
White House Liaison/Committee Management Officer.

[FR Doc. 2010-9713 Filed 4-26-10; 8:45 am]

BILLING CODE 8025-01-P